DEPARTMENT OF AGRICULTURE

Rural Housing Service

Rural Business—Cooperative Service

Rural Utilities Service

Notice of Request for Revision of a Currently Approved Information Collection

AGENCY: Rural Housing Service, Business-Cooperative Service, and Rural Utilities Service, USDA.

ACTION: Proposed collection; comments requested.

SUMMARY: In accordance with the Paperwork Reduction Act of 1995, this notice announces Rural Development's intention to request a revision for a currently approved information collection in support of loan programs administered by the Rural Housing Service, Business—Cooperative Service, and Rural Utilities Service.

DATES: Comments on this notice must be received by August 26, 2014 to be assured of consideration.

FOR FURTHER INFORMATION CONTACT: John McKnight, Staff Accountant, Office of the Deputy Chief Financial Officer, Internal Control and Initiatives Branch, U.S. Department of Agriculture, STOP 33, 4300 Goodfellow Blvd., Bldg. 104, St. Louis, MO 63120, Telephone: (314) 457-4299.

SUPPLEMENTARY INFORMATION: Title: Form RD 1951-65, Customer Initiated Payments (CIP) Enrollment Form; Form RD 1951-66, FedWire Worksheet, and Form RD 3550-28, Authorization Agreement for Preauthorized Payments.

OMB Number: 0575-0184.

Expiration Date of Approval: July 31, 2014.

Type of Request: Revision of a currently approved information collection.

Abstract: Rural Development uses electronic methods (Customer Initiated Payments [CIP], FedWire, and Preauthorized Debits [PAD]) for receiving and processing loan payments and collections. These electronic collection methods provide a means for Rural Development borrowers to transmit loan payments from their financial institution (FI) accounts to Rural Development's Treasury Account and receive credit for their payments.

To administer these electronic loan collection methods, Rural Development collects the borrower's FI routing information (routing information includes the FI routing number and the borrower's account number). Rural Development uses Agency approved forms for collecting bank routing information for CIP, FedWire, and PAD.

Estimate of Burden: Public reporting burden for this collection of information is estimated to average .33 hours per response. Each Rural Development borrower who elects to participate in electronic loan payments will only prepare one response for the life of their loan unless they change financial institutions or accounts.

Respondents: Business or other for-profit; Not-for-profit institutions; and State, Local, or Tribal Government.

Estimated Number of Respondents: 6,723.

Estimated Number of Responses per Respondent: 1.

Estimated Number of Responses: 6,723.

Estimated Total Annual Burden on Respondents: 3,259 hours.

Copies of this information collection can be obtained from Jeanne Jacobs, Regulations and Paperwork Management Branch, at (202) 692-0040.

Comments are invited on: (1) The need for the information including whether the information has practical utility; (2) the accuracy of the reporting burden estimate; (3) ways to enhance the quality, utility, and clarity of the information to be collected; and (4) ways to minimize the burden of the information collection on respondents.

Comments should be submitted to Jeanne Jacobs, Regulations and Paperwork Management Branch, Support Services Division, Rural Development, U.S. Department of Agriculture, STOP 0742, 1400 Independence Avenue SW., Washington, DC 20250-0742. All responses to this notice will be summarized, included in the request for Office of Management and Budget (OMB) approval, and will become a matter of public record.

Dated: June 20, 2014.
David Lipsetz,
Acting Administrator, Rural Housing Service.

[FR Doc. 2014-15125 Filed 6-26-14; 8:45 am]

BILLING CODE 3410-XV-P